DEPARTMENT OF JUSTICE

Notice of Lodging of Consent Decree Under the Clean Water Act

Notice is hereby given that on May 7, 2009, a Complaint was filed and a proposed Consent Decree was lodged in United States v. Anadarko Petroleum Corporation, Howell Corporation, and Howell Petroleum Corporation, Civil Action No. 09-CV-100-D with the United States District Court for the District of Wyoming.

The proposed Consent Decree concerning Defendants' onshore, non-transportation, oil production facilities in Wyoming and Montana resolves all claims asserted in the United States' Complaint under the Clean Water Act, 33 U.S.C. 1311(a) and 1321(b)(3), as amended by the Oil Pollution Act of 1990 (“OPA”), 33 U.S.C. 2701-2762, related to unauthorized discharges of oil from Defendants' facility as well as allegations pursuant that Defendants failed to prepare adequate Spill Prevention Control and Countermeasures Plans (“SPCC Plans”) and lacked required Facility Response Plans (“FRPs”).

The settlement secures $1,050,000 in civil penalties and an estimated $8,717,500 in injunctive relief from Defendants. Among other things, the injunctive relief requires Defendants to: revise facility SPCC Plans; create FRP Plans for 4 facilities; assure secondary containment conforms to requirements; adopt a facility integrity and release mitigation program which will include, among other things, increased inspections and integrity testing of certain facility components.

The Department of Justice will receive for a period of thirty (30) days from the date of this publication comments relating to the settlement. Comments should be addressed to the Assistant Attorney General, Environment and Natural Resources Division, and either e-mailed to pubcomment-ees.enrd@usdoj.gov or mailed to P.O. Box 7611, U.S. Department of Justice, Washington, DC 20044-7611, and should refer to United States v. Anadarko Petroleum Corporation, Howell Corporation, and Howell Petroleum Corporation, Civil Action No. 09-CV-100-D, Ref. 90-5-1-1-08426.

The Consent Decree may be examined at the United States Attorney's Office for the District of Wyoming, 2120 Capitol Avenue—4th Floor, Cheyenne, Wyoming 82001 (USAO No. 06V100) and at U.S. EPA Region 8, 1595 Wynkoop Street, Denver, CO 80202-1129. During the public comment period, the Consent Decree may also be examined on the following Department of Justice Web site: http://www.usdoj.gov/enrd/Consent_Decrees.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy, exclusive of exhibits, from the Consent Decree Library, please enclose a check in the amount of $11.25 (25 cents per page reproduction cost) payable to the U.S. Treasury or, if by e-mail or fax, forward a check in that amount to the Consent Decree Library at the stated address. If requesting a copy including all exhibits, please enclose a check in the amount of $14.50 payable to the U.S. Treasury.

Maureen Katz,
Assistant Chief, Environmental Enforcement Section, Environment and Natural Resources Division.

[FR Doc. E9-11131 Filed 5-12-09; 8:45 am]

BILLING CODE 4410-15-P